DEPARTMENT OF JUSTICE

Antitrust Division

Notice Pursuant to the National Cooperative Research and Production Act of 1993—Members Of SGIP 2.0, Inc.

Notice is hereby given that, on July 22, 2013, pursuant to Section 6(a) of the National Cooperative Research and Production Act of 1993, 15 U.S.C. 4301 et seq. (“the Act”), Members of SGIP 2.0, Inc. (“MSGIP 2.0”) has filed written notifications simultaneously with the Attorney General and the Federal Trade Commission disclosing changes in its membership. The notifications were filed for the purpose of extending the Act's provisions limiting the recovery of antitrust plaintiffs to actual damages under specified circumstances. Specifically, Reliant Energy Retail Services, Inc., Houston, TX; The University of Tokyo, Bunkyo-ku, Tokyo, JAPAN; U.S. Department of Energy, Washington, DC; Lawrence Berkeley National Laboratory (LBNL), Berkeley, CA; MITRE Corp., McLean, VA; Raytheon Trusted Computer Solutions, Herndon, VA; Tri-County Electric Cooperative, Inc., Hooker, OK; ARC Technical Resources, Inc., San Jose, CA; CENACE, Quito, EQUADOR; City of Watertown, Watertown, WI; Pacific Data Bank Security, Delta, British Columbia, CANADA; North American Energy Standards Board (NAESB), Houston, TX; Oak Ridge National Laboratory (ORNL), Oak Ridge, TN; ComRent International, Upper Marlboro, MD; Sensus, Raleigh, NC; Sandia National Laboratories, Albuquerque, NM; Ward Bower Innovations LLC, Albuquerque, NM; Consumers Energy Company, Jackson, MI; National Renewable Energy Laboratory (NREL), Golden, CO; Analysis Group, Inc., Boston, MA; Alliance for Telecommunications Industry Solutions (ATIS), Washington, DC; and Korea Smart Grid Association (KSGA), Seocho-gu, Seoul, REPUBLIC OF KOREA, have been added as parties to this venture.

In addition, Battelle Pacific Northwest Lab, has changed its name to Pacific Northwest National Laboratory (PNNL), Richland, WA.

No other changes have been made in either the membership or planned activity of the group research project. Membership in this group research project remains open, and MSGIP 2.0 intends to file additional written notifications disclosing all changes in membership.

On February 5, 2013, MSGIP 2.0 filed its original notification pursuant to Section 6(a) of the Act. The Department of Justice published a notice in the Federal Register pursuant to Section 6(b) of the Act on March 7, 2013 (78 FR 14836).

The last notification was filed with the Department on April 26, 2013. A notice was published in the Federal Register pursuant to Section 6(b) of the Act on May 28, 2013 (78 FR 31976).

Patricia A. Brink,
Director of Civil Enforcement, Antitrust Division.

[FR Doc. 2013-20688 Filed 8-23-13; 8:45 am]

BILLING CODE P